NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral and Economic Sciences (#1171).

Date/Time: May 17, 2012; 8:30 a.m. to 5:30 p.m.; May 18, 2012; 8:30 a.m. to 1 p.m.

Place: National Science Foundation, 4201 Wilson Boulevard, Stafford I, Room 1235, Arlington, VA 22230.

Type of Meeting: Open.

Contact Person: Ms. Lisa Jones, Office of the Assistant Director, Directorate for Social, Behavioral and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate programs and activities.

Agenda: Agenda Topics (order of discussion is subject to change).

Updates and discussions on continuing activities:

• Discussion with NSF Director and Deputy Director

• SBE Advisory Committee—Subcommittee activities

• SMA Committee of Visitors (COV) Report

• NSF INSPIRE and I-Corps Initiatives

• Government-wide Big Data Initiative

• SBE data-related initiatives

• Innovation in SBE/NCSES

• NSF Merit Review Criteria

• On the Horizon

Dated: April 24, 2012.
Susanne Bolton,
Committee Management Officer.

[FR Doc. 2012-10150 Filed 4-26-12; 8:45 am]

BILLING CODE 7555-01-P